DEPARTMENT OF COMMERCE

National Oceanic and Atmospheric Administration

RIN 0648-XA296

Endangered and Threatened Species; Take of Anadromous Fish

AGENCY: National Marine Fisheries Service (NMFS), National Oceanic and Atmospheric Administration (NOAA), Commerce.

ACTION: Applications for four new scientific research permits.

SUMMARY: Notice is hereby given that NMFS has received four scientific research permit application requests relating to Pacific salmonids. The proposed research is intended to increase knowledge of species listed under the Endangered Species Act (ESA) and help guide management and conservation efforts. The applications may be viewed online at: https://apps.nmfs.noaa.gov/preview/preview_open_for_comment.cfm

DATES: Comments or requests for a public hearing on the applications must be received at the appropriate address or fax number (see ADDRESSES) no later than 5 p.m. Pacific standard time on April 18, 2011.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: Garth.Griffin@noaa.gov). Permit application instructions are available from the address above, or online at apps.nmfs.noaa.gov http://www.nwr.noaa.gov./.

SUPPLEMENTARY INFORMATION:

Species Covered in This Notice

The following listed species are covered in this notice:

Chinook salmon (Oncorhynchus tshawytscha): threatened lower Columbia River (LCR), Snake River fall-run Chinook salmon (O. tshawytscha), Puget Sound Chinook salmon (O. tshawytscha), California Coast Chinook salmon (O. tshawytscha).

Chum salmon (O. keta): Threatened Columbia River (CR).

Steelhead (O. mykiss): Threatened SR.

Coho salmon (O. kisutch): Threatened LCR, threatened Oregon Coast (OC).

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 16333

NOAA Fisheries' Northwest Fisheries Science Center (NWFSC) is seeking a 5-year permit to conduct yearly survey trawling operations off the West Coast of the U.S. The researchers would take individuals from all the species covered in this notice except for OC coho. The purpose of the research is to provide fisheries-independent indices of stock abundance to support stock assessment models for commercially and recreationally harvested groundfish species. The survey would collect data on 90+ fish species in the ocean to fulfill the mandates of the Magnuson-Stevens Sustainable Fisheries Act (MSA). The survey would run from May through October every year and cover the area from the US-Canada border at Cape Flattery, Washington to the US-Mexico border, at depths ranging from 55 meters to 1,280 meters. The objectives of the survey are to: (1) Quantify the distribution and relative abundance of commercially valuable groundfish species, with an emphasis on rockfish species of the genus Sebastes; (2) obtain biological data (length, weight, gender, and maturity) from various species of interest; (3) collect age structures for species covered by MSA fisheries management plans; (4) record net mensuration and trawl performance data; and (5) collect oceanographic data (i.e., surface and bottom water temperature, salinity, near bottom dissolved oxygen concentration, chlorophyll fluorescence, and irradiance near bottom).

The research would benefit listed species by increasing our understanding of the connections between various oceanographic conditions and fish survival in the marine environment. This greater understanding, in turn, will be used to inform future decisions regarding listed species management and recovery. The researchers do not intend to kill any listed fish, but a few may die as an inadvertent result of the proposed activities.

Permit 16335

The NWFSC is seeking a 5-year permit to conduct biennial acoustic surveys of Pacific hake along the West Coast of the U.S. during odd-numbered years. The researchers would take individuals from all species covered in this notice except for SR steelhead. The age-specific estimates of total population abundance derived from the surveys are a key data source for the joint U.S.-Canada Pacific hake stock assessments and, ultimately, are critical to informing decisions about U.S., Tribal, and international harvest levels. This integrated acoustic and trawl survey is used to assess the distribution, biology, and status and trends in abundance of Pacific hake. The survey would be conducted from June to September; it would target aggregations of Pacific hake along the continental shelf and break. The survey would extend from Monterey, California to Dixon Entrance, Alaska, in depths from about 50 meters to 1,500 meters. The NWFSC is seeking authorization for the U.S. portion of the survey. The goal of the survey is to obtain representative catches of acoustically-detected organisms.

The research would benefit listed species by helping make the West Coast hake fishery more specific to the target species and thereby reducing bycatch of other species. The researchers do not intend to kill any listed fish, but a few may die as an inadvertent result of the proposed activities.

Permit 16337

The NWFSC is seeking a 5-year permit to conduct Pacific hake Acoustic Inter-vessel Calibration (IVC) research and gear trial cruises along the West Coast of the U.S. to make hake stock assessment and improve hake biomass estimates. The researchers would take individuals from all species covered in this notice except for OC coho and SR steelhead. The goals of the IVC research are to: (1) Compare acoustic estimates for hake between two vessels; (2) research acoustic differentiation between hake and Humboldt squid (Dosidicus gigas); and (3) confirm that groundtruthing tows (mid-water and bottom trawls) are adequately characterizing schools of hake. The IVC research would take place in the ocean from a point off the Strait of Juan de Fuca, Washington down to the central Oregon coast. If hake and Humboldt squid are not present at the time of the study, the cruise may extend to the south until they are found or until the vessels reach a point 100 nautical miles south of Monterey Bay, California. The IVC research would be conducted in June and July. The goal of the gear trial cruises is to test new equipment and methods to ensure that the best available science is used when conducting the biennial hake survey. The gear trial cruises would take place from August through September and would extend from Monterey, California to Dixon Entrance, Alaska, in depths from about 50 meters to 1,500 meters.

The proposed research would benefit listed species by generating information that, ultimately, will be used to help reduce the number of listed fish being accidentally caught in the hake fishery. The researchers do not intend to kill any listed fish, but a few may die as an inadvertent result of the proposed activities.

Permit 16338

The NWFSC is seeking a 5-year permit to test the efficacy of an open escape window bycatch reduction device to reduce Chinook salmon and rockfish bycatch in the Pacific hake fishery. The proposed activities would be conducted from May to September off the Central Oregon coast and, although it is unlikely, sampling may also occur off the coasts of Washington and northern California. All research tows would take place over the continental shelf and slope in depths of less than 1,000 meters; all captured fish would be identified, and some would be retained for the scientific analyses necessary for the research.

The research would benefit listed species by helping develop fishing methods and equipment that allow large-scale fisheries (like the hake fishery) to catch fewer threatened and endangered fish. The researchers do not intend to kill any listed fish, but a few may die as an inadvertent result of the proposed activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 15, 2011.
Angela Somma,
Chief, Endangered Species Division, Office of Protected Resources, National Marine Fisheries Service.

[FR Doc. 2011-6441 Filed 3-17-11; 8:45 am]

BILLING CODE 3510-22-P